ENVIRONMENTAL PROTECTION AGENCY

[FRL-8021-5]

Meeting of the Ozone Transport Commission

AGENCY: Environmental Protection Agency (EPA).

ACTION: Notice of meeting; correction.

SUMMARY: EPA published a document in the Federal Register on December 30, 2005 which announced an upcoming meeting of the Ozone Transport Commission (OTC) in Washington, DC. The document contained incorrect meeting dates.

FOR FURTHER INFORMATION CONTACT: Marcia L. Spink, Associate Director, Air Protection Division, U.S. Environmental Protection Agency, Region III, 1650 Arch Street, Philadelphia, PA 19103; (215) 814-2100. For documents and press inquiries contact: Ozone Transport Commission, 444 North Capitol Street NW., Suite 638, Washington, DC 20001; (202) 508-3840; e-mail: ozone@otcair.org; Web site: http://www.otcair.org.

Corrections

In the Federal Register of December 30, 2005, in FR Document No. E5-8127:

1. On page 77381, in the third column, correct the DATES caption to read:

DATES: The meeting will be held on February 22, 2006 starting at 1 p.m. and February 23, 2006 at 9 a.m.

2. On page 77382, in the first column, first paragraph, correct the third sentence to read:

“The purpose of this notice is to announce that the OTC will meet on February 22-23, 2006 at the address noted earlier in this notice.”

Dated: January 6, 2006.
Donald S. Welsh,
Regional Administrator, Region III.

[FR Doc. E6-320 Filed 1-12-06; 8:45 am]

BILLING CODE 6560-50-P